DEPARTMENT OF COMMERCE

National Oceanic and Atmospheric Administration

[I.D. 041207D]

New England Fishery Management Council; Public Meeting; Correction

AGENCY: National Marine Fisheries Service (NMFS), National Oceanic and Atmospheric Administration (NOAA), Commerce

ACTION: Notice of an amendment to a public meeting.

SUMMARY: The New England Fishery Management Council (Council) is scheduling a public meeting of its Pelagics (Whiting/Herring) Committee Meeting in May, 2007, to consider actions affecting New England fisheries in the exclusive economic zone (EEZ). Recommendations from this group will be brought to the full Council for formal consideration and action, if appropriate.

DATES: The meeting will be held on Thursday, May 3, 2007 at 9:30 a.m.

ADDRESSES: The meeting will be held at the Holiday Inn, 31 Hampshire Street, Mansfield, MA 02048: telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The original meeting notice published in the Federal Register on April 19, 2007 (72 FR 19700).

This notice serves as an amendment to that notice and is being published in its entirety with additions to the agenda.

The Committee will continue development of alternatives for consideration in an amendment to address the management of small mesh multispecies (silver hake, red hake, offshore hake). The committee will also discuss alternatives for limited access qualification criteria and possible approaches for addressing historical fishery participants as well as possible approaches for managing the catch of small mesh multispecies in non-directed fisheries. The committee will continue development of alternatives for specifying Optimum Yield (OY) and discuss alternatives for total allowable catches (TACs) and TAC-based management in the small mesh multispecies fishery. In addition to working on the development of alternatives for an amendment to address small mesh multispecies, the Pelagics Committee will discuss whether the Council should require observer coverage on at-sea processors in the herring fishery and possibly make a recommendation to the Council on this issue. Other topics may be covered at the committee's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: Authority: 16 U.S.C. 1801 et seq.

Dated: April 19, 2007.
Tracey L. Thompson,
Acting Director, Office of Sustainable Fisheries, National Marine Fisheries Service.

[FR Doc. E7-7778 Filed 4-23-07; 8:45 am]

BILLING CODE 3510-22-S